DEPARTMENT OF COMMERCE

National Oceanic and Atmospheric Administration

[I.D. 060800E]

Marine Mammals; File No. 675-1563-01

AGENCY: National Marine Fisheries Service (NMFS), National Oceanic and Atmospheric Administration (NOAA), Commerce.

ACTION: Receipt of application for amendment.

SUMMARY: Notice is hereby given that Dr. Graham A.J. Worthy, [Principal Investigator], Department of Marine Biology, Texas A&M University, 5001 Avenue U, Suite 105, Galveston, Texas 77551, has requested an amendment to scientific research Permit No. 675-1563.

DATES: Written or telefaxed comments must be received on or before July 24, 2000.

ADDRESSES: The amendment request and related documents are available for review upon written request or by appointment in the following office(s):

Permits and Documentation Division, Office of Protected Resources, NMFS, 1315 East-West Highway, Room 13705, Silver Spring, MD 20910 (301/713-2289); and

Regional Administrator, Alaska Region, NMFS, P.O. Box 21668, Juneau, AK 99802-1668 (907/586-7221).

Written comments or requests for a public hearing on this request should be submitted to the Chief, Permits and Documentation Division, F/PR1, Office of Protected Resources, NMFS, 1315 East-West Highway, Room 13130, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Ruth Johnson or Simona Roberts, 301/713-2289.

SUPPLEMENTARY INFORMATION: The subject amendment to Permit No. 675-1563, issued on June 6, 2000 (65 FR 36889) is requested under the authority of the Marine Mammal Protection Act of 1972, as amended (16 U.S.C. 1361 et seq.), the Regulations Governing the Taking and Importing of Marine Mammals (50 CFR part 216), and the Fur Seal Act of 1966, as amended (16 U.S.C. 1151 et seq.).

Permit No. 675-1563 authorizes the permit holder to capture, mark, sedate, blood/biopsy sample 10 females and 20 pups Northern fur seals (Callorhinus ursinus), incidentally harass 60 animals of all ages, and accidentally kill up to 2 seals on the Pribilof Islands for a one-year period.

The permit holder requests amendment to take by capture and sample, bleach mark an additional five female seals, increase accidental mortality to five, attach VHF radio tags to all females over a three-year period, and to incidentally harass, annually, up to 13,000 animals of all ages.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 16, 2000.
Ann D. Terbush,
Chief, Permits and Documentation Division, Office of Protected Resources, National Marine Fisheries Service.

[FR Doc. 00-15856 Filed 6-21-00; 8:45 am]

BILLING CODE 3510-22-F